DEPARTMENT OF TRANSPORTATION

Federal Aviation Administration

14 CFR Part 39

[Docket No. FAA-2013-0464; Directorate Identifier 2012-NM-010-AD; Amendment 39-17947; AD 2014-16-23]

RIN 2120-AA64

Airworthiness Directives; Dassault Aviation Airplanes

AGENCY: Federal Aviation Administration (FAA), Department of Transportation (DOT).

ACTION: Final rule.

SUMMARY: We are superseding Airworthiness Directive (AD) 2011-16-01 for all Dassault Aviation Model FALCON 7X airplanes. AD 2011-16-01 required adding an automatic reversion logic and a means for the pilot to override pitch trim control normal modes, and installing placards in the cockpit; replacing the frame of the emergency switch box; replacing certain horizontal stabilizer electronic control units (HSECU); revising the Limitations section of the airplane flight manual (AFM); and revising the maintenance program to incorporate a certain task. This new AD requires modifying the fly-by-wire (FBW) standard; and operational testing of the electric motors reversion relays and trim emergency command of the horizontal stabilizer trim system (HSTS), and repairs if necessary. This AD was prompted by an uncontrolled pitch trim runaway during descent. We are issuing this AD to prevent an uncontrolled pitch trim runaway, which could result in loss of control of the airplane.

DATES: This AD becomes effective October 9, 2014.

The Director of the Federal Register approved the incorporation by reference of certain publications listed in this AD as of October 9, 2014.

The Director of the Federal Register approved the incorporation by reference of certain other publications listed in this AD as of August 22, 2011 (76 FR 47424, August 5, 2011).

ADDRESSES: You may examine the AD docket on the Internet at http://www.regulations.gov/#!docketDetail;D=FAA-2013-0464; or in person at the U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 to supersede AD 2011-16-01, Amendment 39-16759 (76 FR 47424, August 5, 2011). AD 2011-16-01 applied to all Dassault Aviation Model FALCON 7X airplanes. The NPRM published in the Federal Register on July 3, 2013 (78 FR 40065). The NPRM proposed to continue to require adding an automatic reversion logic and a means for the pilot to override pitch trim control normal modes, and installing placards in the cockpit; replacing the frame of the emergency switch box; replacing certain HSECU; revising the Limitations section of the AFM; and revising the maintenance program to incorporate a certain task. The NPRM also proposed to require modifying the FBW standard; operating the airplane according to the limitations and procedures in an approved AFM; and operational testing of the electric motors reversion relays and trim emergency command of the HSTS, and repairs if necessary.

The European Aviation Safety Agency (EASA), which is the Technical Agent for the Member States of the European Community, has issued EASA Airworthiness Directive 2011-0241, dated December 19, 2011 (referred to after this as “the MCAI”), to correct an unsafe condition for all Dassault Aviation Model FALCON 7X airplanes. The MCAI states:

In May 2011, a Dassault Aviation Falcon 7X aeroplane experienced an uncontrolled pitch trim runaway during descent. The crew succeeded in recovering a stable situation and performed an uneventful landing.

The results of the investigations showed that there was a production defect in the Horizontal Stabilizer Electronic Control Unit (HSECU) which could have contributed to the cause of the event.

This condition, if not corrected, could lead to a loss of control of the aeroplane.

To address this unsafe condition, EASA issued emergency AD 2011-0102-E [http://ad.easa.europa.eu/blob/easa_ad_2011_0102_E_Superseded.pdf/EAD_2011-0102-E_1] which prohibited further flights. Following further technical investigations accomplished by Dassault Aviation, EASA issued AD 2011-0114, currently at revision 2, [http://ad.easa.europa.eu/blob/easa_ad_2011_0114R2.pdf/AD_2011-0114R2_1] which superseded EASA AD 2011-0102-E. Following accomplishment of all the actions as required by EASA AD 2011-0114R2, all aeroplanes could resume flying with operational limitations.

Since EASA AD 2011-0114R2 was issued, Dassault Aviation have developed a modification (M1245 to be embodied through accomplishment of Dassault Aviation Service Bulletin F7X-214) of the Fly-By-Wire (FBW) current standard which improves the monitoring and reversion logic of the Horizontal Stabilizer Trim System (HSTS). This modification results in earlier failure detection and quicker reversion.

Dassault Aviation have issued as well Revision 13 of the Aircraft Flight Manual (AFM) which incorporates the changes introduced in EASA AD 2011-0114R2 (CP55 and 56) as well as the new changes resulting from Dassault Aviation M1245 (CP58).

Dassault Aviation have introduced as well operational tests of the HSTS electric motors reversion relays and of the HSTS trim emergency command into the Chapter 5.40 of F7X Aircraft Maintenance Manual (CP010).

For the reasons described above, EASA issued [an AD] . . . to require:

1. Accomplishing Dassault Aviation modification M1245,

2. amending the AFM, and

3. implementing the operational tests of the HSTS electric motors reversion relays and of the HSTS trim emergency command.

Accomplishment of all the above actions restored the full original certified flight envelope of the aeroplane.

Since EASA AD 2011-0169 was issued, further analyses have demonstrated that, once Dassault Aviation modification M1245 is embodied, it is allowed to restore the originally certified Minimum Equipment List (MEL) items which were removed in accordance with the requirement of paragraph (4) of EASA AD 2011-0114R2.

For the reasons described above, this [EASA] AD, which supersedes EASA AD 2011-0169, retaining its requirements, in addition, extends the applicability of the AD to all S/Ns and, for aeroplanes fitted with FBW standard 2.1.7.3, allows the MEL limitations imposed by EASA AD 2011-0114R2 to be removed.

You may examine the MCAI in the AD docket on the Internet at http://www.regulations.gov/#!documentDetail;D=FAA-2013-0464-0002.

Comment

We gave the public the opportunity to participate in developing this AD. We have considered the comment received. The following presents the comment received on the NPRM (78 FR 40065, July 3, 2013) and the FAA's response to the comment.

Request To Revise Unsafe Condition Determination

Rockwell Collins requested that we remove the statement from the NPRM (78 FR 40065, July 3, 2013) that describes that the horizontal stabilizer electronic control unit could have contributed to the event which led to the determination of an unsafe condition. Rockwell Collins submitted a test report to substantiate its request.

We disagree with the commenter's request. As stated in the MCAI, the results of the investigations showed that there was a production defect in the HSECU, which could have contributed to the cause of the event. An airplane lost pitch control, which resulted in the unsafe condition determination that led to the issuance of the MCAI. We concur with the unsafe condition stated in the MCAI. We have not changed this final rule in this regard.

Revisions to Service Information

Since we issued the NPRM (78 FR 40065, July 3, 2013), Dassault Aviation issued Chapter 5-40-00, Airworthiness Limitations, DGT 107838, Revision 3, dated July 16, 2012, of the Dassault Falcon 7X Maintenance Manual (MM); and Dassault Falcon 7X Airplane Flight Manual (AFM), DGT105608, Revision 18, dated November 15, 2013. These documents contain no substantive changes to the requirements of this final rule beyond the procedures specified in the revisions of the documents cited in the NPRM. We have determined that these new procedures will not impose an additional burden on any operator. This final rule has been changed to refer to this revised MM and AFM as the appropriate sources of information to address the identified unsafe condition.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the European Aviation Safety Agency (EASA), or Dassault Aviation's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the relevant data, considered the comment received, and determined that air safety and the public interest require adopting this AD with the changes described previously and minor editorial changes. We have determined that these changes:

• Are consistent with the intent that was proposed in the NPRM (78 FR 40065, July 3, 2013) for correcting the unsafe condition; and

• Do not add any additional burden upon the public than was already proposed in the NPRM (78 FR 40065, July 3, 2013).

We also determined that these changes will not increase the economic burden on any operator or increase the scope of this AD.

Costs of Compliance

We estimate that this AD affects 30 airplanes of U.S. registry.

The actions that were required by AD 2011-16-01, Amendment 39-16759 (76 FR 47424, August 5, 2011), that are retained in this AD take about 340 work-hours per product, at an average labor rate of $85 per work-hour. Based on these figures, the estimated cost of the actions that were required by AD 2011-16-01 is $28,900 per product.

We also estimate that it will take about 11 work-hours per product to comply with the new basic requirements of this AD. The average labor rate is $85 per work-hour. Based on these figures, we estimate the cost of this AD on U.S. operators to be $28,050, or $935 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0464; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-16-01, Amendment 39-16759 (76 FR 47424, August 5, 2011), and adding the following new AD:

2014-16-23 Dassault Aviation: Amendment 39-17947. Docket No. FAA-2013-0464; Directorate Identifier 2012-NM-010-AD.

(a) Effective Date

This airworthiness directive (AD) becomes effective October 9, 2014.

(b) Affected ADs

This AD replaces AD 2011-16-01, Amendment 39-16759 (76 FR 47424, August 5, 2011).

(c) Applicability

This AD applies to all Dassault Aviation Model FALCON 7X airplanes, certificated in any category, all serial numbers.

(d) Subject

Air Transport Association (ATA) of America Code 27, Flight Controls.

(e) Reason

This AD was prompted by an uncontrolled pitch trim runaway during descent. We are issuing this AD to prevent an uncontrolled pitch trim runaway, which could result in loss of control of the airplane.

(f) Compliance

Comply with this AD within the compliance times specified, unless already done.

(g) Retained Modification

This paragraph restates the requirements of paragraph (g) of AD 2011-16-01, Amendment 39-16759 (76 FR 47424, August 5, 2011). Before further flight, do the applicable actions specified in paragraphs (g)(1), (g)(2), and (g)(3) of this AD.

(1) For airplanes on which Dassault Mandatory Service Bulletin 7X-211, Revision 1, dated June 14, 2011, has not been done as of August 22, 2011 (the effective date of AD 2011-16-01, Amendment 39-16759 (76 FR 47424, August 5, 2011)): Modify the airplane by adding an automatic reversion logic and a means for the pilot to override pitch trim control normal modes, and install placards in the cockpit in full view of the pilots, in accordance with paragraph 2., “Accomplishment Instructions for Aircraft which have not Already Implemented the Revision 1 of the Service Bulletin,” of Dassault Mandatory Service Bulletin 7X-211, Revision 2, dated June 22, 2011, including New Standard Installation Checklist and Appendix A, and including FCS Data Loading Procedure, Issue D, dated May 28, 2010.

(2) For airplanes on which Dassault Mandatory Service Bulletin 7X-211, Revision 1, dated June 14, 2011, has been done as of August 22, 2011 (the effective date of AD 2011-16-01, Amendment 39-16759 (76 FR 47424, August 5, 2011)): Replace the frame of the emergency switch box, in accordance with paragraph 3., “Accomplishment Instructions for Aircraft which have Already Implemented Revision 1 of this Service Bulletin,” of Dassault Mandatory Service Bulletin 7X-211, Revision 2, dated June 22, 2011, including New Standard Installation Checklist and Appendix A, and including FCS Data Loading Procedure, Issue D, dated May 28, 2010.

(3) For airplanes equipped with any horizontal stabilizer electronic control unit (HSECU) part number (P/N) 051244-04, replace the HSECU with any HSECU identified in paragraph (g)(3)(i), (g)(3)(ii), or (g)(3)(iii) of this AD, in accordance with the Accomplishment Instructions of Dassault Mandatory Service Bulletin 7X-212, Revision 2, dated July 7, 2011.

(i) HSECU P/N 051244-02.

(ii) Verified HSECU P/N 051244-04 having a stamped “V.”

(iii) HSECU P/N 051244-05.

(h) Retained Credit for Previous Actions

This paragraph restates the provisions specified in paragraph (h) of AD 2011-16-01, Amendment 39-16759 (76 FR 47424, August 5, 2011). This paragraph provides credit for the HSECU replacement required by paragraph (g)(3)(i) or (g)(3)(ii) of this AD, if those replacements were performed before August 22, 2011 (the effective date of AD 2011-16-01), using Dassault Mandatory Service Bulletin 7X-212, Revision 1, dated June 23, 2011, which is not incorporated by reference in this AD.

(i) Retained Revision of Airplane Flight Manual (AFM)

This paragraph restates the requirements of paragraph (i) of AD 2011-16-01, Amendment 39-16759 (76 FR 47424, August 5, 2011). As of August 22, 2011 (the effective date AD 2011-16-01), operate the airplane according to the limitations and procedures in the Dassault Falcon 7X AFM, Revision 12, dated June 16, 2011, until the actions required by paragraph (p) of this AD are accomplished. Revision 12 introduces revised operational speed limitations and revised procedures accounting for the new TRIM EMERG button.

(j) Retained Electronic Checklist Database Installation

This paragraph restates the requirements of paragraph (j) of AD 2011-16-01, Amendment 39-16759 (76 FR 47424, August 5, 2011). Before further flight, install the electronic checklist V0007 database, in accordance with the Accomplishment Instructions of Dassault Service Bulletin 7X-213, dated June 22, 2011. Accomplishing the actions required by paragraph (o) of this AD terminates the actions required by paragraph (j) of this AD.

(k) Retained Operating Restrictions

This paragraph restates the requirements of paragraph (k) of AD 2011-16-01, Amendment 39-16759 (76 FR 47424, August 5, 2011). Before further flight, revise the Limitations section of the Dassault Falcon 7X AFM to include the information provided in figure 1 to paragraph (k) of this AD. This may be accomplished by inserting a copy of figure 1 to paragraph (k) of this AD into the AFM. Accomplishment of the actions required in paragraph (p) of this AD terminates the actions required by paragraph (k) of this AD.

Figure 1 to Paragraph (k) of this AD—Retained AFM Revision

(l) Retained Maintenance Program Revision

This paragraph restates the requirements of paragraph (l) of AD 2011-16-01, Amendment 39-16759 (76 FR 47424, August 5, 2011).

(1) Within 30 days after August 22, 2011 (the effective date of AD 2011-16-01, Amendment 39-16759 (76 FR 47424, August 5, 2011)): Revise the maintenance program to incorporate Maintenance Planning Document (MPD) Task 27-40-00-710-801, as specified in Dassault Aviation, Falcon 7X Maintenance Manual (MM), Falcon 7X—Chapter 5-40-00 after Rev 01, dated June 10, 2011 (commonly referred to as Dassault Change Proposal (CP) CP009 to Chapter 5-40-00 of Dassault Falcon 7X MM). The initial compliance time for doing the operational test of the HSTS electric motors reversion relays is 1,850 flight hours after accomplishment of the applicable actions required by paragraph (g) of this AD. Accomplishment of the actions required in paragraph (q) of this AD terminates the actions required by paragraph (l) of this AD.

(2) The MM revision required by paragraph (l) of this AD may be done by inserting a copy of Maintenance Planning Document (MPD) Task 27-40-00-710-801, as specified in Dassault Aviation, Falcon 7X Maintenance Manual (MM), Falcon 7X—Chapter 5-40-00 after Rev 01, dated June 10, 2011 (commonly referred to as Dassault Change Proposal (CP) CP009 to Chapter 5-40-00 of Dassault Falcon 7X MM), into the MM. When Dassault CP CP009 has been included in general revisions of the MM, the general revisions may be inserted into the MM, provided the relevant information in the general revision is identical to that in Dassault CP CP009, and Dassault CP CP009 may be removed.

(m) Retained Limitations for Alternative Procedures or Intervals

This paragraph restates the requirements of paragraph (m) of AD 2011-16-01, Amendment 39-16759 (76 FR 47424, August 5, 2011). After the maintenance program has been revised as required by paragraph (l) of this AD, no alternative procedure or interval for the operational test may be used unless the procedure and/or interval is approved as an alternative method of compliance (AMOC) in accordance with the procedures specified in paragraph (s) of this AD.

(n) Retained FAA AD Differences

This paragraph restates the AD differences identified in Note 3 of AD 2011-16-01, Amendment 39-16759 (76 FR 47424, August 5, 2011). This AD differs from the mandatory continuing airworthiness information (MCAI) and/or service information as follows:

(1) European Aviation Safety Agency (EASA) AD 2011-0114R2, dated July 7, 2011, requires repetitive operational tests of the HSTS electric motors reversion relays, and specifies that the aircraft maintenance program may be revised in lieu of those repetitive tests. This FAA AD mandates revising the maintenance program.

(2) EASA AD 2011-0114R2, dated July 7, 2011, does not include any requirement to revise the electronic checklist. Paragraph (j) of this FAA AD requires this action.

(3) EASA AD 2011-0114R2, dated July 7, 2011, mandates amending the minimum equipment list (MEL) by removing certain items. This FAA AD instead requires revising the AFM to prohibit dispatch with those items inoperative. The operational effect, however, is the same.

(o) New Fly-By-Wire System Modification

Within 12 months after accomplishing the actions required by paragraph (g) of this AD, or within 9 months after the effective date of this AD, whichever is later: Modify the fly-by-wire system installed in the airplane to the 2.1.7.3 standard, in accordance with the Accomplishment Instructions of Dassault Service Bulletin 7X-214, dated August 30, 2011, as revised by Dassault Service Bulletin 7X-214, Erratum, dated January 26, 2012. Accomplishment of the actions required in paragraph (o) of this AD terminates the actions required by paragraph (j) of this AD.

(p) New AFM Revision

After accomplishing the actions required by paragraph (o) of this AD: Operate the airplane thereafter according to the limitations and procedures specified in Dassault Falcon 7X AFM, DGT105608, Revision 18, dated November 15, 2013. Accomplishment of the actions required by this paragraph terminates the requirements of paragraphs (i) and (k) of this AD; after those actions have been done, the AFM limitation required by paragraph (k) of this AD may be removed from the AFM.

(q) New Maintenance Program Revision

Within 30 days after the effective date of this AD: Revise the maintenance program to incorporate Chapter 5-40-00, Airworthiness Limitations, DGT 107838, Revision 3, dated July 16, 2012, of the Dassault Falcon 7X Maintenance Manual (MM), into the MM.

(1) The initial compliance time for the operational test of the HSTS trim emergency command is within 650 flight hours after the modification required by paragraph (o) of this AD.

(2) The initial compliance time for the operational test of the HSTS electric motors reversion relays is within 5,050 flight hours after the modification required by paragraph (o) of this AD.

(3) Accomplishment of the actions required in paragraph (q) of this AD terminates the actions required by paragraph (l) of this AD.

(r) New Limitations for Alternative Actions or Intervals

After accomplishing the revision required by paragraph (q) of this AD, no alternative actions (e.g., inspections) or intervals may be used unless the actions or intervals are approved as an AMOC in accordance with the procedures specified in paragraph (s) of this AD.

(s) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-16-01, Amendment 39-16759 (76 FR 47424, August 5, 2011), are approved as AMOCs for the corresponding provisions of this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(t) Related Information

(1) Refer to MCAI EASA Airworthiness Directive 2011-0241, dated December 19, 2011. You may examine the MCAI in the AD docket on the Internet at http://www.regulations.gov/#!documentDetail;D=FAA-2013-0464-0002.

(2) Service information identified in this AD that is not incorporated by reference is available at the addresses specified in paragraphs (u)(5) and (u)(6) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on October 9, 2014.

(i) Chapter 5-40-00, Airworthiness Limitations, DGT 107838, Revision 3, dated July 16, 2012, of the Dassault Falcon 7X Maintenance Manual (MM).

(ii) Dassault Falcon 7X Airplane Flight Manual, DGT105608, Revision 18, dated November 15, 2013. The document revision level is identified only on the title page and page 1 of the List of Effective Sub-Sub-Sections. The document date can only be found on the title page.

(iii) Dassault Service Bulletin 7X-214, dated August 30, 2011.

(iv) Dassault Service Bulletin 7X-214, Erratum, dated January 26, 2012. “Erratum” appears only in the list of effective/modified pages of this document.

(4) The following service information was approved for IBR on August 22, 2011 (76 FR 47424, August 5, 2011).

(i) Dassault Aviation, Falcon 7X Maintenance Manual, Falcon 7X—Chapter 5-40-00 after Rev 01, dated June 10, 2011 (Commonly referred to as Dassault Change Proposal (CP) CP009 to Chapter 5-40-00 of Dassault Falcon 7X Maintenance Manual).

(ii) Dassault Falcon 7X Airplane Flight Manual, Revision 12, dated June 16, 2011. The document date can only be found in the List of Revisions section of the Dassault Falcon 7X Airplane Flight Manual.

(iii) Dassault Mandatory Service Bulletin 7X-211, Revision 2, dated June 22, 2011, including FCS Data Loading Procedure, Issue D, dated May 28, 2010, and including New Standard Installation Checklist and Appendix A,. New Standard Installation Checklist and Appendix A are not dated or identified with a document number.

(iv) Dassault Mandatory Service Bulletin 7X-212, Revision 2, dated July 7, 2011.

(v) Dassault Service Bulletin 7X-213, dated June 22, 2011.

(5) For service information identified in this AD, contact Dassault Falcon Jet, P.O. Box 2000, South Hackensack, NJ 07606; telephone 201-440-6700; Internet http://www.dassaultfalcon.com.

(6) You may view this service information at the FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to: http://www.archives.gov/federal-register/cfr/ibr-locations.html.

Issued in Renton, Washington, on August 7, 2014.
Victor Wicklund,
Acting Manager, Transport Airplane Directorate, Aircraft Certification Service.

[FR Doc. 2014-21037 Filed 9-3-14; 8:45 am]

BILLING CODE 4910-13-P